NUCLEAR REGULATORY COMMISSION

10 CFR Parts 2 and 52

[NRC-2011-0102]

RIN 3150-AI77

Draft Regulatory Guide, Guidance for ITAAC Closure

AGENCY: Nuclear Regulatory Commission.

ACTION: Draft regulatory guide; request for comment.

SUMMARY: The U.S. Nuclear Regulatory Commission (NRC) is issuing for public comment Draft Regulatory Guide (DG)-1250, “Guidance for ITAAC Closure Under 10 CFR Part 52.” The DG-1250 describes a method that the staff of the NRC considers acceptable for use in satisfying the requirements for documenting the completion of inspections, tests, analyses, and acceptance criteria (ITAAC).

DATES: Submit comments on Draft Regulatory Guide, DG-1250 by July 25, 2011. Comments received after this date will be considered if it is practical to do so, but the NRC is able to ensure consideration only for comments received on or before this date. Although a time limit is given, comments and suggestions in connection with items for inclusion in guides currently being developed or improvements in all published guides are encouraged at any time.

ADDRESSES: Please include Docket ID NRC-2011-0102 in the subject line of your comments. Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any one of the following methods:

• Federal Rulemaking Web Site: Go to http://www.regulations.gov and search for documents filed under Docket ID NRC-2011-0102. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

You can access publicly available documents related to this notice using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. Electronic copies of DG-1250 are available through the NRC's public Web site under Draft Regulatory Guides in the “Regulatory Guides” collection of the NRC Library at http://www.nrc.gov/reading-rm/doc-collections/. Electronic copies are also available in ADAMS (http://www.nrc.gov/reading-rm/adams.html), under Accession No. ML102530401. The regulatory analysis may be found in ADAMS under Accession No. ML102530440.

• Federal Rulemaking Web Site: Public comments and supporting materials related to this notice can be found at http://www.regulations.gov by searching on Docket ID NRC-2011-0102.

FOR FURTHER INFORMATION CONTACT: R.A. Jervey, U.S. Nuclear Regulatory Commission, Washington, DC 20555-0001, telephone: 301-251-7404; e-mail: Richard.Jervey@nrc.gov.

SUPPLEMENTARY INFORMATION: The NRC is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide is temporarily identified by its task number, DG-1250, which should be mentioned in all related correspondence. The DG-1250 is proposed Revision 1 of Regulatory Guide 1.215, dated October 2010.

This guide describes a method that the staff of the NRC considers acceptable for use in satisfying the requirements for documenting the completion of ITAAC. Since the ITAAC process has yet to be used for a combined license review under Title 10 of the Code of Federal Regulations (10 CFR) Part 52, this revision includes refinements in the ITAAC process as the NRC develops experience with expected practices by licensees. Further changes may be recommended following additional experience with this process. In general, this revision provides clarifying information sufficient to endorse the methodologies described in the industry guidance document, Nuclear Energy Institute (NEI) 08-01, “Industry Guideline for the ITAAC Closure Process under 10 CFR Part 52,” Revision 4, issued July 2010, for the implementation of 10 CFR 52.99, “Inspection during Construction.”

Dated at Rockville, Maryland, this 4th day of May 2011.
For the Nuclear Regulatory Commission.
Harriet Karagiannis,
Acting Chief, Regulatory Guide Development Branch, Division of Engineering, Office of Nuclear Regulatory Research.

[FR Doc. 2011-11678 Filed 5-12-11; 8:45 am]

BILLING CODE 7590-01-P